DEPARTMENT OF COMMERCE

International Trade Administration

U.S. Healthcare Education Mission to New Delhi, Hyderabad, and Ahmedabad, India, January 27-February 1, 2014

AGENCY: International Trade Administration, Department of Commerce.

ACTION: Amendment.

SUMMARY: The United States Department of Commerce, International Trade Administration is amending the Notice published at 78 FR 42505, July 16, 2013, regarding the U.S. Healthcare Education Mission to New Delhi, Hyderabad, and Ahmedabad, India to revise the contact.

SUPPLEMENTARY INFORMATION: There is now a new mission contact.

Amendments

For the reasons stated above, the Contact Information section of the Notice of the U.S. Healthcare Education Mission to New Delhi, Hyderabad, and Ahmedabad, India, January 27-February 1, 2014 is amended as follows: U.S. Export Assistance Center Milwaukee: Koreen M. Grube, International Trade Specialist; U.S. Department of Commerce, International Trade Administration; Tel: 414-297-1853; Koreen.Grube@trade.gov.

Contact Information

U.S. Commercial Service in India: Sathya Prabha, Commercial Assistant, Hyderabad, Tel: (91-40) 2330 4025, Email: Sathya.Prabha@trade.gov.

U.S. Export Assistance Center Milwaukee: Koreen M. Grube International Trade Specialist, U.S. Department of Commerce International Trade Administration, Tel: 414-297-1853, Koreen.Grube@trade.gov.

Elnora Moye,
Trade Program Assistant.

[FR Doc. 2013-27076 Filed 11-12-13; 8:45 am]

BILLING CODE 3510-DR-P